SURFACE TRANSPORTATION BOARD

Two-Week Notice of Request for Emergency Approval of Information Collection: Urgent Rail Service Issues

AGENCY: Surface Transportation Board.

ACTION: Notice and request for comments.

SUMMARY: As part of its continuing effort to reduce paperwork burdens, and as required by the Paperwork Reduction Act of 1995 (PRA), the Surface Transportation Board (Board) gives notice of its intent to request from the Office of Management and Budget (OMB) emergency approval for an existing collection without an OMB Control Number, as described below. If granted, the emergency approval is only valid for up to 180 days. If necessary, the Board will follow this emergency request with a submission for a 3-year approval through OMB's normal PRA clearance process.

DATES: Comments on this information collection should be submitted by June 17, 2022.

ADDRESSES: Direct all comments to Chris Oehrle, PRA Officer, Surface Transportation Board, 395 E Street SW, Washington, DC 20423-0001, or to PRA@stb.gov. When submitting comments, please refer to “Urgent Rail Service Issues.” For further information regarding this collection, contact Ian Anderson at (202) 245-0337 or Ian.Anderson@stb.gov. Assistance for the hearing impaired is available through the Federal Information Relay Service (FIRS) at 1-800-877-8339.

SUPPLEMENTARY INFORMATION: Comments are requested concerning each collection as to (1) whether the particular collection of information is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be included and summarized in the Board's request for OMB approval.

Subjects: In this notice, the Board is requesting comments on the following information collection:

Description of Collection

Title: Urgent Rail Service Issues.

OMB Control Number: 2140-XXXX.

STB Form Number: None.

Type of Review: Emergency approval of an existing information collection without an OMB control number.

Respondents: Class I (Large) Railroads.

Number of Respondents: Seven.

Estimated Time Per Response: See Table below.

Table—Estimated Hours per Response
Type of filing | Estimated hours per response
Service Recovery Plans * | 42
Historical Data * | 8
Service Progress Reports * | 8
Individual Conference Calls * | 0.5
Weekly Performance Data | 8
Monthly Employment Data | 8
Supplement to April 2022 Employment Data | 8
* These sub-collections only apply to the four largest Class I railroads.

Frequency: One-time, bi-weekly and monthly, as provided in Table below.

Table—Estimated Number of Responses
Type of filing | Number of respondents | Estimated frequency
Service Recovery Plans * | 4 | 1
Historical Data * | 4 | 1
Service Progress Reports * | 4 | 13
Individual Conference Calls * | 4 | 6
Weekly Performance Data | 7 | 26
Monthly Employment Data | 7 | 6
Supplement to April 2022 Employment Data | 7 | 1
* These sub-collections only apply to the four largest Class I railroads.

Total Burden Hours (annually including all respondents): 2,476 (sum of estimated hours per response × number of annual responses for each type of filing), as provided in Table below.

Table—Total Estimated Burden Hours
Type of filing | Estimated hours per response | Number of respondents | Estimated frequency | Total annual burden hours
Service Recovery Plans * | 42 | 4 | 1 | 168
Historical Data * | 8 | 4 | 1 | 32
Service Progress Reports * | 8 | 4 | 13 | 416
Individual Conference Calls * | 0.5 | 4 | 6 | 12
Weekly Performance Data | 8 | 7 | 26 | 1,456
Monthly Employment Data | 8 | 7 | 6 | 336
Supplement to April 2022 Employment Data | 8 | 7 | 1 | 56
Total Annual Burden Hours |  |  |  | 2,476
* These sub-collections only apply to the four largest Class I railroads.

Total Annual “Non-hour Burden” Cost: There are no non-hourly burden costs for this collection. The itemized sub-collections may be filed electronically.

Needs and Uses: Under the Interstate Commerce Act, as amended by the ICC Termination Act of 1995, the Board is responsible for the economic regulation of common carrier rail transportation. Under 49 U.S.C. 1321(b), 11123, and 11145(a), the Board is empowered to address immediate service issues. Collecting this information will enable the Board to take necessary action to timely deal with the unanticipated and urgent service issues affecting the U.S. rail system. These measures are meant to inform the Board's assessment of further actions that may be warranted to address the acute service issues facing the rail industry and to promote industry-wide transparency, accountability, and improvements in rail service.

At the Board's April 26 and 27, 2022 public hearing in Urgent Issues in Freight Rail Service, the Board received extensive testimony on severe rail service issues reported by a wide range of witnesses—including agricultural, energy, and other shippers, as well as government officials, rail labor, and rail experts. The Board has also continued to review and monitor weekly rail service performance data that indicated substantial deterioration in service. This information collection focuses on the adequacy of service recovery efforts involving BNSF Railway Company (BNSF), CSX Transportation (CSXT), Norfolk Southern Railway Company (NS), and Union Pacific Railroad Company (UP), and it requires more comprehensive and customer-centric reporting of all Class I (large) railroads' service metrics.

In a decision served on May 6, 2022, the Board found that immediate action was needed to address the significant service problems, and it ordered certain railroads to immediately submit relevant information. This information collection directs the four largest U.S. rail carriers—UP, BNSF, CSX, and NS—to submit service recovery plans, along with bi-weekly progress reports for the next six months, in an effort to address service deficiencies that are impacting the public, businesses, and the U.S. economy. This collection also requires all Class I rail carriers operating in the United States to report more comprehensive and customer-centric performance metrics and employment data, also for a six-month period. The Board is taking this action to better inform its assessment of actions that may be warranted to address the acute service issues described above.

The information received by the Board from this collection will be filed in Docket No. EP 770 (Sub-No. 1) and will be publicly available at www.stb.gov and may be found by a search in that docket under the “proceedings and dockets” pull-down menu.

The Board makes this submission because, under the PRA, a federal agency that conducts or sponsors a collection of information must display a currently valid OMB control number. A collection of information, which is defined in 44 U.S.C. 3502(3) and 5 CFR 1320.3(c), includes agency requirements that persons submit reports, keep records, or provide information to the agency, third parties, or the public. Under 5 CFR 1320.13, emergency processing is appropriate here and the Board is providing a two-week comment period through publication in the Federal Register concerning each proposed collection of information.

Dated: May 31, 2022.
Jeffrey Herzig,
Clearance Clerk.

[FR Doc. 2022-11981 Filed 6-2-22; 8:45 am]

BILLING CODE 4915-01-P